Title 3—

The President

Proclamation 7803 of July 23, 2004

Parents' Day, 2004

By the President of the United States of America

A Proclamation

Parents are a source of hope, help, stability, and love for their children. Parents also teach children important values like courage, compassion, self-reliance, reverence, integrity, and respect for others. As we celebrate Parents' Day, we recognize the important contributions of America's parents and renew our commitment to standing with our families to help them raise healthy, responsible children.

Parenthood is a privilege and a great joy that comes with great responsibility. Mothers and fathers play the vital roles of provider, nurturer, disciplinarian, counselor, advocate, educator, and motivator. They offer unconditional love and help their children to realize their dreams. As parents work to send the right messages to our young people, they shape the character and future of our Nation.

To help strengthen American families and encourage parents' active involvement in the lives of their children, my Administration is committed to promoting healthy marriages and responsible fatherhood. We are providing information to parents on early childhood education and development and supporting community-based parenting education programs. We are also providing parents with more options in educating their children and more opportunities to adopt young boys and girls in need.

On Parents' Day, we honor America's mothers and fathers for their guidance, support, and unconditional love for their children. The tireless efforts of parents, stepparents, adoptive parents, and foster parents make our Nation stronger and help build a better future for all our citizens.

NOW, THEREFORE, I, GEORGE W. BUSH, President of the United States of America, by virtue of the authority vested in me by the Constitution and laws of the United States and consistent with Public Law 103-362, as amended, do hereby proclaim Sunday, July 25, 2004, as Parents' Day. I encourage all Americans to express their love, respect, and appreciation to parents across our Nation. I also call upon citizens to observe this day with appropriate programs, ceremonies, and activities.

IN WITNESS WHEREOF, I have hereunto set my hand this twenty-third day of July, in the year of our Lord two thousand four, and of the Independence of the United States of America the two hundred and twenty-ninth.

B

[FR Doc. 04-17577

Filed 7-29-04; 9:09 am]

Billing code 3195-01-P